DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of September and October 2004.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-55,419; Kolonaki Import (Georgiou Studio), San Francisco, CA.

TA-W-55,528; Drager Medical, A division of Dragerwerk AG, Telford, PA.

TA-W-55,463; Rajala Lumber, Deer River, MN.

TA-W-55,468; Teleflex Automotive Group, a division of Teleflex, Inc., Lebanon, VA.

TA-W-55,474; Ecodyne MRM, Inc., Massillon, OH.

TA-W-55,452; U.S. Gypsum Company, Alabaster Plant, Tawas, MI.

TA-W-55,592; Advantek, Inc., a subsidiary of Siegel-Robert, Inc., Minnetonka, MN.

TA-W-55,472; Schneider Electric/Square D, Monroe, NC.

TA-W-55,495; Tesco Technologies, LLC, Headquarters Office, Auburn Hills, MI.

TA-W-55,551; Corra-Board Products, a division of Timbar Packaging & Display, Hanover, PA.

TA-W-55,475; Synthetic Thread Co., Inc., Bethlehem, PA.

TA-W-55,408; Kokoku Wire Industries, South Bend, IN.

TA-W-55,290A, B, C, D; Butler Manufacturing Company, subsidiary of Bluescope Steel, Ltd, Buildings Div., Panels Production, Galesburg, IL, Trim and Components Production, Galesburg, IL, Secondaries Production, Galesburg, IL, Delta Joist Production, Galesburg, IL.

The workers firm does not produce an article as required for certification under section 222 of the Trade Act of 1974.

TA-W-55,683; Parker Hannifin Corp., Hauser Textile Systems, Spartanburg, SC.

TA-W-55,604 & A; Leybold Vacuum USA, Inc., a division of Leybold Vacuum, a division of Unaxis AG, Tempe, AZ and Morgan Hill, CA.

TA-W-55,549; Engineering Service, Inc., Troy, MI.

TA-W-55,612; Tally Genicom, LP, Waynesboro, VA.

TA-W-55,665; Waltonen Engineering, Inc., Warren, MI.

TA-W-55,290E; Butler Manufacturing Company, Subsidiary of Bluescope Steel, Ltd, Buildings Div., Truss Purlins Production, Galesburg, IL.

TA-W-55,686; Electronic Data Systems Corporation (EDS), Coraopolis, PA.

TA-W-55,601; California Cedar Products Company, Stockton, CA.

The investigation revealed that criterion (a)(2)(A)(I.A) and (a)(2)(B)(II.A) (no employment decline) has not been met.

TA-W-55,593; Kongsberg Automotive, Inc., Farmington Hills, MI.

TA-W-55,455; Innovex, Inc., Maple Plain, MN.

TA-W-55,632; Turck, Inc., including leased workers of Doherty, Plymouth, MN.

The investigation revealed that criterion (a)(2)(A)(I.B) (Sales or production, or both, did not decline) and (a)(2)(B)(II.B) (has shifted production to a county not under the free trade agreement with U.S.) have not been met.

TA-W-55,511; Cherry Electrical Products, a division of Cherry Corp., including leased workers from QPS Staffing, Pleasant Prairie, WI.

TA-W-55,572; Down River, LLC, White City, OR.

TA-W-55,465; Diolen Industries, Fiberts, Inc., Industrial Fibers, Scottsboro, AL.

TA-W-55,516; Invista, Inc., Performance Fibers Division, Kinston, NC.

TA-W-55,610 & A; Broyhill Furniture Industries, Inc., Harper Furniture Plant, Lenoir, NC and Pacemaker Furniture Plant, Lenoir, NC.

TA-W-55,518; BASF Corporation, Freeport, TX.

The investigation revealed that criteria (1) has not been met. A significant number or proportion of the workers in the workers' firm or an appropriate subdivision of the firm have become totally or partially separated, or are threatened to become totally or partially separated.

TA-W-55,415; **Brook Industries, Inc., Fond du Lac, WI.

The investigation revealed that criteria (a)(2)(A)(I.C) increased imports and (II.C) (has shifted production to a foreign country) have not been met.

TA-W-55,478; Ingersoll Cutting Tool Co., Rockford, IL.

TA-W-55,533; Johnson Electric, including leased workers of Select Staff, Staff Force and Link Staffing Services, Brownsville, TX.

The investigation revealed that criteria (a)(2)(A)(I.B) The sales or production, or both, of such firm or subdivision have decreased absolutely and (II.C) (has shifted production to a foreign country) have not been met.

TA-W-55,586; Monarch Services, Employed at IBM Corporation, Durham, NC.

Affirmative Determinations for Worker Adjustment Assistance

The following certifications have been issued; the date following the company name and location of each determination references the impact date for all workers of such determination.

The following certifications have been issued. The requirements of (a)(2)(A) (increased imports) of section 222 have been met.

TA-W-55,532; Primavera Manufacturing Corporation, Philadelphia, PA: August 24, 2003.

TA-W-55,554; AMG Instore, Inc., Hartland Division of Array Marketing Group, including leased workers of Staffing Inc., Hartland, WI: September 2, 2003.

TA-W-55,608; Loring Coat, Inc., Newburgh, NY: August 25, 2003.

TA-W-55,480; Conduit Pipe Products Company, West Jefferson, OH: August 9, 2003.

TA-W-55,442; Ocean Star International, Snowville, UT: August 16, 2003.

TA-W-55,507; Aerus, LLC, formally Electrolux, LLC, Bristol, VA: August 24, 2003.

TA-W-55,649; Remington Industries, Benton, TN: September 10, 2003.

TA-W-55,526; IQE, Inc., a subsidiary of IQE, PLC, Bethlehem, PA.

TA-W-55,574; Philips Lighting Company, a subsidiary of Royal Philips Electronics, Paris, TX: September 2, 2003.

TA-W-55,560; Lacey Manufacturing Company, MCA Product Line, including leased workers of Adecco Staffing Services, Bridgeport, CT: September 2, 2003.

TA-W-55,561; NIBCO, Inc., Eastside Plant, Elkhart, IN: August 18, 2003.

TA-W-55,522; ACE Electrical Acquisition, LLC, Columbus, KS: August 27, 2003.

TA-W-55,448; Sheaffer Manufacturing Co., LLC, Fort Madison, IA: August 9, 2003.

TA-W-55,524; Franklin Burlington Plastics TA, AS Spartech VY-Cal, Conshohocken, PA: August 27, 2003.

TA-W-55,623; Superior Printing Company, Warren, OH: September 14, 2003.

TA-W-55,577; Resources Conservation, Inc., Stamford, CT: September 8, 2003.

TA-W-55,550; Owen Manufacturing, Inc., Owen, WI: August 26, 2003.

TA-W-55,529; Plastek Industries, Inc., Plastek Group Division (EPD), Including Leased Workers of Career Concepts, Erie, PA: August 23, 2003.

TA-W-55,563; Marsilli North America, Inc., Headquarters, a subsidiary of Marsilli & Company, S.P.A., Owings Mills, MD, National Sales and Service Division, a subsidiary of Marsilli & Company, S.P.A., Rolling Meadows, IL: September 5, 2003.

TA-W-55,559; Chatham Borgstena Automotive Textiles, Mt. Airy, NC: August 25, 2003.

TA-W-55,660; Toledo Commutator, Owosso, MI: September 13, 2003.

TA-W-55,659; GL&V USA, Inc., a subsidiary of GL&V, Inc., Research and Development Lab, Watertown, NY: September 13, 2003.

TA-W-55,652; Eljer Plumbingware, Inc., Ford City, PA: September 15, 2003.

TA-W-55,464; RPM Technology, including leased workers from Staffmark, Fort Collins, CO: August 11, 2003.

TA-W-55,539; Clover Garments, Inc., San Francisco, CA: August 30, 2003.

TA-W-55,512; Kimble Glass, Inc., a division of Gerresheimer Glas, Warsaw, IN: August 25, 2003.

TA-W-55,627; Allied Healthcare Products, Inc., Stuyvesant Falls, NY: September 7, 2003.

TA-W-55,502; Schott North America, Plant Duryea, Duryea, PA: August 22, 2003.

TA-W-55,496; Honeywell Aerospace, Division of Honeywell International, Boyne City, MI: August 16, 2003.

TA-W-55,624; Irwin Manufacturing Corporation, Ocilla, GA: September 10, 2003.

TA-W-55,471; Schweiger Furniture, a division of KCS International, Inc., Jefferson, WI: August 18, 2003.

TA-W-55,513; Peerless Pottery, Inc., Rockport, IN: August 24, 2003.

TA-W-55,540 & A, B; American Uniform Company, Conasauga Plant, Conasauga, TN, Hartford Warehouse, South Windsor, CT and Middleton Warehouse, Middleton, WI: August 24, 2003.

TA-W-55,564; Haeger Industries, Inc., Macomb Division, Macomb, IL: September 3, 2003.

TA-W-55,555; American Offset Printing Ink, Inc., Charlotte, NC: August 25, 2003.

The following certifications have been issued. The requirements of (a)(2)(B) (shift in production) of section 222 have been met.

TA-W-55,500; Arlee Home Fashions, Inc., Mountain Grove, MO: August 18, 2003.

TA-W-55,553; Honeywell International, Inc., Honeywell Video Systems Division, Falls Church, VA: August 27, 2003.

TA-W-55,645; Montrose/CDT, Auburn, MA: September 15, 2003.

TA-W-55,489; Brite Star Manufacturing Co., Philadelphia, PA: August 13, 2003.

TA-W-55,509; Friday Services, Inc., Workers at Continental Teves, Asheville, NC: August 23, 2003.

TA-W-55,635; SRC Devices, Inc., Earth City, MO: September 14, 2003.

TA-W-55,552; Nu-Kote International, Laser Cartridge, Chatsworth, CA: August 25, 2003.

TA-W-55,558; Emerson Appliance Controls, Sparta, TN: September 26, 2004.

TA-W-55,640; Owens Corning, OEM Solutions Group Division, including leased workers of Procure Personnel, Inc., West Hazleton, PA: September 16, 2003.

TA-W-55,510; Fey Automotive Products, Inc., a subsidiary of Wedgestone Corp., Irwindale, CA: August 17, 2003.

TA-W-55,628; Anaheim Manufacturing Company, Anaheim, CA: August 23, 2003.

TA-W-55,505; Belden CDT, Electronics Div., Essex Junction, VT: August 17, 2003.

TA-W-55,584; Pompeii Furniture, Inc., a division of Brown Jordan International, Miami, FL: September 9, 2003.

TA-W-55,579; Cozzini, Inc., San Leandro, CA: August 31, 2003.

TA-W-55,664; Weavexx Corp., a Division of Xerium, Inc., Greeneville, TN: March 28, 2004.

TA-W-55,613; Asmus Acquisition Company d/b/a Asmus Spice Company, a subsidiary of Pacific Holdings, Inc., a subsidiary of GB Seasonings, Inc., a subsidiary of Kerry Holding Company, Clinton Twp, MI: September 10, 2003.

TA-W-55,684; Madison Square Furniture, Inc., Hanover, PA: September 23, 2003.

TA-W-55,535; Kemet Electronics Corp., Brownsville Distribution Center, Brownsville, TX: August 31, 2003.

TA-W-55,633; Beverly Creations, Inc., Passaic, NJ: September 15, 2003.

TA-W-55,617; Levi Strauss and Company, San Francisco Sewing Room, San Francisco, CA: September 14, 2003.

TA-W-55,576; Hammer Metals, Conover, NC: September 8, 2003.

TA-W-55,609; Chicago Miniature Opto Electronics Technologies, Inc., Newton, NJ: September 14, 2003.

TA-W-55,602; Flexfab LLC, Flexfab Horizon International, Albion, IN: September 13, 2003.

TA-W-55,575; Duncan Parking Technologies, Inc., Harrison, AR: September 8, 2003.

TA-W-55,597 & A, B, C; VF Jeanswear Limited Partnership, subsidiary of VF Corp., Sewing Division, El Paso, TX, Cutting and Parts Division, Fabens, TX, Administrative Division, El Paso, TX and Laundry and Finishing Division, El Paso, TX: September 10, 2003.

TA-W-55,588; Zellweger Analytics, Inc., Miramar, FL: September 9, 2003.

TA-W-55,621; Southern Mills, Inc., a subsidiary of Royal Ten Cate USA, Inc., Cabletex Div., Newnan, GA: August 30, 2003.

TA-W-55,519; Pinehurst Manufacturing, Albemarle, NC: August 26, 2003.

TA-W-55,556; Aeronca, Inc., a subsidiary of Magellan Aerospace, Corp., Middletown, OH: August 27, 2003.

TA-W-55,525; Pacific Precision Metals, Inc., Azusa, CA: August 25, 2003.

TA-W-55,699; Gear Research, Grand Rapids, MI: September 27, 2003.

TA-W-55,441 & A; Resistance Technology, Inc., Behind-The-Ear Assembly Division, a subsidiary of Selas Corporation of America, Arden Hills, MN and Hybrid Integrated Circuit Division, a subsidiary of Selas Corp., of America, Arden Hills, MN: August 10, 2003.

TA-W-55,643; A.O. Smith Electrical Products Company, including On-Site Leased Workers from Kelley Services, Owosso, MI: September 13, 2003.

TA-W-55,631; Custom Finishers, Inc., High Point, NC: September 16, 2003.

TA-W-55,538; Amerock Corp., Rockford, IL: October 2, 2004.

TA-W-55,534A; Collins Tool Corp., formerly known as Mann Edge Tool Company, Old Stage Road, Lewistown, PA: August 31, 2003.

TA-W-55,290; Butler Manfuacturing Company, subsidiary of Bluescope Steel Ltd, Buildings Division, Fabricated Frames Production, Galesburg, IL: July 16, 2003.

The following certifications have been issued. The requirement of upstream supplier to a trade certified primary firm has been met.

TA-W-55,543; Clifford Tool and Manufacturing Co., Inc., Chatsworth, CA: September 1, 2003.

TA-W-55,508; EDM Corp., Piqua, OH: August 25, 2003.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department as determined that criterion (2) of section 246 has not been met. Workers at the firm possess skills that are easily transferable.

TA-W-55,524; Franklin Burlington Plastics TA, AS Spartech VY-Cal, Conshohocken, PA.

TA-W-55,448; Sheaffer Manufacturing Co., LLC, Fort Madison, IA.

TA-W-55,522; Ace Electrical Acquisition, LLC, Columbus, Kansas.

TA-W-55,561; NIBCO, Inc., Eastside Plant, Elkhart, IN.

TA-W-55,560; Lacey Manufacturing Co., MCA Product Line, including leased workers of Adecco Staffing Services, Bridgeport, CT.

TA-W-55,574; Philips Lighting Co., a subsidiary of Royal Philips Electronics, Paris, TX.

TA-W-55,664; Weavexx Corp., a div. of Xerium, Inc., Greeneville, TN.

TA-W-55,579; Cozzini, Inc., San Leandro, CA.

TA-W-55,635; SRC Devices, Inc., Earth City, MO.

TA-W-55,584; Pompeii Furniture, Inc., a div. of Browne Jordan International, including on-site leased workers from Manpower International, Miami, FL.

TA-W-55,505; Belden CDT, Electronics Div., Essex Junction, VT.

TA-W-55,628; Anaheim Manufacturing Company, Anaheim, CA.

TA-W-55,510; Fey Automotive Products, Inc., a subsidiary of Wedgestone Corporation, Irwindale, CA.

TA-W-55,640; Owens Corning, OEM Solutions Group Division, including leased workers of Procure Personnel, Inc., West Hazleton, PA.

TA-W-55,558; Emerson Appliance Controls, Sparta, TN.

TA-W-55,552; Nu-Kote International, Laser Cartridge, Chatsworth, CA.

TA-W-55,543; Clifford Tool and Manufacturing Co., Inc., Chatsworth, CA.

Since the workers are denied eligibility to apply for TAA, the workers cannot be certified eligible for ATAA.

TA-W-55,468; Teleflex Automotive Group, a division of Teleflex, Inc., Lebanon, VA.

TA-W-55,474; Ecodyne MRM, Inc., Massillon, OH.

TA-W-55,452; U.S. Gypsum Company, Alabaster Plant, Tawas, MI.

TA-W-55,592; Advantek, Inc., a subsidiary of Siegel-Robert, Inc., Minnetonka, MN.

TA-W-55,472; Schneider Electric/Square D, Monroe, NC.

TA-W-55,495; Tesco Technologies, LLC, Headquarters Office, Auburn Hills, MI.

TA-W-55,551; Corra-Board Products, a division of Timbar Packaging & Display, Hanover, PA.

TA-W-55,475; Synthetic Thread Co., Inc., Bethlehem, PA.

TA-W-55,549; Engineering Service, Inc., Troy, MI.

TA-W-55,612; Tally Genicom, LP, Waynesboro, VA.

TA-W-55,665; Waltonen Engineering, Inc., Warren, MI.

TA-W-55,686; Electronic Data Systems Corporation (EDS), Coraopolis, PA.

TA-W-55,601; California Cedar Products Co., Stockton, CA.

TA-W-55,593; Kingsberg Automotive, Inc., Farmington Hills, MI.

TA-W-55,572; Down River, LLC, White City, OR.

TA-W-55,455; Innovex, Inc., Maple Plain, MN.

TA-W-55,632; Turck, Inc., including leased workers of Doherty, Plymouth, MN.

TA-W-55,408; Kokoku Wire Industries, South Bend, IN.

TA-W-55,465; Diolen Industrial Fibers, Inc., Industrial Fibers, Scottsboro, AL.

TA-W-55,516; Invista, Inc., Performance Fibers Div., Kinston, NC.

TA-W-55,610 &A; Broyhill Furniture Industries, Inc., Harper Furniture Plant, Lenoir, NC and Pacemaker Furniture Plant, Lenoir, NC.

TA-W-55,518; BASF Corp., Freeport, TX.

TA-W-55,478; Ingersoll Cutting Tool Company, Rockford, IL.

TA-W-55,533; Johnson Electric, including leased workers of Select Staff, Staff Force and Link Staffing Services, Brownsville, TX.

TA-W-55,290A, B, C, D, E; Butler Manufacturing Company, subsidiary of Bluescope Steel, Ltd, Buildings Division, Panels Production, Galesburg, IL, Trim and Components Production, Galesburg, IL, Secondaries Production, Galesburg, IL, Delta Joist Production, Galesburg, IL and Truss Purlins Production, Galesburg, IL.

Affirmative Determinations for Alternative Trade Ajdustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-55,538; Amerock Corporation, Rockford, IL: October 2, 2004.

TA-W-55,555; American Offset Printing Ink, Inc., Charlotte, NC: August 25, 2003.

TA-W-55,631; Custom Finishers, Inc., High Point, NC: September 16, 2003.

TA-W-55,643; A.O. Smith Electrical Products Co., including On-Site Leased Workers from Kelley Services, Owosso, MI: September 13, 2003.

TA-W-55,441 & A; Resistance Technology, Inc., Behind-The Ear Assembly Division, a subsidiary of Selas Corp. of America, Arden Hills, MN and Hybrid Integrated Circuit Div., Arden Hills, MN: August 10, 2003.

TA-W-55,290; Butler Manufacturing Company, subsidiary of Bluescope Steel, Ltd, Buildings Division, Fabricated Frames Production, Galesburg, IL: July 16, 2003.

TA-W-55,699; Gear Research, Grand Rapids, MI: September 27, 2003.

TA-W-55,525; Pacific Precision Metals, Inc., Azusa, CA: August 25, 2003.

TA-W-55,576; Hammer Metals, Conover, NC: September 8, 2003.

TA-W-55,556; Aeronca, Inc., a subsidiary of Magellan Aerospace, Corp., Middletown, OH: August 27, 2003.

TA-W-55,564; Haeger Industries, Inc., Macomb Div., Macomb, IL: September 3, 2003.

TA-W-55,540 & A, B; American Uniform Co., Conasauga Plant, Conasauga, TN, Hartford Warehouse, South Windsor, CT and Middleton Warehouse, Middleton, WI: August 24, 2003.

TA-W-55,513; Peerless Pottery, Inc., Rockport, IN: August 24, 2003.

TA-W-55,519; Pinehurst Manufacturing, Albemarle, NC: August 26, 2003.

TA-W-55,520 & A; Galey & Lord Industries, Inc., New York, NY, Greensboro Corporate Office, Greensboro, NC: August 24, 2003.

TA-W-55,471; Schweiger Furniture, a div. of KCS International, Inc., Jefferson, WI: August 18, 2003.

TA-W-55,621; Southern Mills, Inc., a subsidiary of Royal Ten Cate USA, Inc., Cabletex Div., Newnan, GA: August 30, 2003.

TA-W-55,624; Irwin Manufacturing Corp., Ocilla, GA: September 10, 2003.

TA-W-55,588; Zellweger Analytics, Inc., Miramar, FL: September 9, 2003.

TA-W-55,597 & A, B, C; VF Jeanswear Limited Partnership, subsidiary of VF Corp., Sewing Division, El Paso, TX, Cutting and Parts Div., Fabens, TX, Administrative Div., El Paso, TX and Laundry and Finishing Div., El Paso, TX: September 10, 2003.

TA-W-55,496; Honeywell Aerospace, div. of Honeywell International, Boyne City, MI: August 16, 2003.

TA-W-55,502; Schott North America, Plant Duryea, Duryea, PA: August 22, 2003.

TA-W-55,575; Duncan Parking Technologies, Inc., Harrison, AR: September 8, 2003.

TA-W-55,602; Flexfab LLC, Flexfab Horizon International, Albion, IN: September 13, 2003.

TA-W-55,609; Chicago Miniature Opto Electronics Technologies, Inc., Newton, NJ: September 14, 2003.

TA-W-55,617; Levi Strauss and Company, San Francisco Sewing Room, San Francisco, CA: September 14, 2003.

TA-W-55,627; Allied Healthcare Products, Inc., Stuyvesant Falls, NY: September 7, 2003.

TA-W-55,633; Beverly Creations, Inc., Passaic, NJ: September 15, 2003.

TA-W-55,508; EDM Corp., Piqua, OH: August 25, 2003.

TA-W-55,512; Kimble Glass, Inc., a division of Gerresheimer Glas, Warsaw, IN: August 25, 2003.

TA-W-55,535; Kemet Electronics Corp., Brownsville Distribution Center, Brownsville, TX: August 31, 2003.

TA-W-55,539; Clover Garments, Inc., San Francisco, CA: August 30, 2003.

TA-W-55,464; RPM Technology, including leased workers from Staffmark, Fort Collins, CO: August 11, 2003.

TA-W-55,684; Madison Square Furniture, Inc., Hanover, PA: September 23, 2003.

TA-W-55,652; Eljer Plumbingware, Inc., Ford City, PA: September 15, 2003.

TA-W-55,659; GL&V USA, Inc., a subsidiary of GL&V, Inc., Research and Development Lab, Watertown, NY: September 13, 2003.

TA-W-55,660; Toledo Commutators, Owosso, MI: September 13, 2003.

TA-W-55,559; Chatham Borgstena Automotive Textiles, Mt. Airy, NC: August 25, 2003.

TA-W-55,563 & A; Marsilli North America, Inc., Headquarters, a subsidiary of Marsilli & Company, S.P.A., Owings Mills, MD and National Sales and Service Division, a subsidiary of Marsilli & Company, S.P.A., Rolling Meadows, IL: September 5, 2003.

TA-W-55,613; Asmus Acquisition Company D/B/A Asmus Spice Co., a subsidiary of Pacific Holdings, Inc., a subsidiary of GB Seasonings, Inc., a subsidiary of Kerry Holding Company, Clinton Twp., MI: September 10, 2003.

TA-W-55,529; Plastek Industries, Inc., Plastek Group Division (EPD), including leased workers of Career Concepts, Erie, PA: August 23, 2003.

TA-W-55,550; Owen Manufacturing, Inc., Owen, WI: August 26, 2003.

TA-W-55,577; Resources Conservation, Inc., Stamford, CT: September 8, 2003.

TA-W-55,623; Superior Printing Co., Warren, OH: September 14, 2003.

TA-W-55,534A; Collins Tool Corporation, formerly known as Mann Edge Tool Company, Old Stage Road, Lewistown, PA: August 31, 2003.

I hereby certify that the aforementioned determinations were issued during the months of September and October 2004. Copies of these determinations are available for inspection in Room C-5311, U.S. Department of Labor, 200 Constitution Avenue, NW., Washington, DC 20210 during normal business hours or will be mailed to persons who write to the above address.

Dated: October 20, 2004.
Timothy Sullivan,
Director, Division of Trade Adjustment Assistance.

[FR Doc. E4-2845 Filed 10-25-04; 8:45 am]

BILLING CODE 4510-30-P